DEPARTMENT OF HOUSING AND URBAN DEVELOPMENT

[Docket No. FR-6460-N-04]

Notice of Regulatory Waiver Requests Granted for the Fourth Quarter of Calendar Year 2024

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on November 1, 2024, and ending on December 31, 2024.

FOR FURTHER INFORMATION CONTACT: For general information about this notice, contact Amanda Wahlig, Acting Associate General Counsel for Legislation and Regulations, Department of Housing and Urban Development, 451 7th Street SW, Room 10282, Washington, DC 20410-0500, telephone 202-402-3743 (this is not a toll-free number). HUD welcomes and is prepared to receive calls from individuals who are deaf or hard of hearing, as well as individuals with speech and communication disabilities.

To learn more about how to make an accessible telephone call, please visit please visit: https://www.fcc.gov/consumers/guides/telecommunications-relay-service-trs.

For information concerning a particular waiver that was granted and for which public notice is provided in this document, contact the person whose name and address follow the description of the waiver granted in the accompanying list of waivers that have been granted in the fourth quarter of calendar year 2024.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from November 1, 2024 through December 31, 2024. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the fourth quarter of calendar year 2024) before the next report is published (the first quarter of calendar year 2025), HUD will include any additional waivers granted for the fourth quarter in the next report.

Accordingly, information about approved waiver requests pertaining to HUD regulations is provided in the Appendix that follows this notice.

Scott Knittle,
Principal Deputy General Counsel.

Appendix

Listing of Waivers of Regulatory Requirements Granted by Offices of the Department of Housing and Urban Development November 1, 2024 Through December 31, 2024

Note to Reader: More information about the granting of these waivers, including a copy of the waiver request and approval, may be obtained by contacting the person whose name is listed as the contact person directly after each set of regulatory waivers granted.

The regulatory waivers granted appear in the following order:

I. Regulatory waivers granted by the Office of Community Planning and Development

II. Regulatory waivers granted by the Office of Housing

III. Regulatory waivers granted by the Office of Public and Indian Housing

I. Regulatory Waivers Granted by the Office of Community Planning and Development

For further information about the following regulatory waivers, please see the name of the contact person that immediately follows the description of the waiver granted.

• Regulation: 24 CFR 92.212(b) and 570.200(h).

Project/Activity: On January 14, 2025, HUD issued CPD Notice 25-02, implementing procedures to govern the submission and review of consolidated plans and action plans for FY 2025 funding prior to the enactment of a FY 2025 HUD appropriations bill. These procedures apply to any Entitlement, Insular or Hawaii nonentitlement grantee with a program year start date prior to, or up to 60 days after, HUD's announcement of the FY 2025 formula program funding allocations for CDBG, ESG, HOME and HOPWA formula funding. Any grantee or HOME participating jurisdiction with an FY 2025 program year start date during the period starting January 1, 2025, and ending October 1, 2025, or 60 days after HUD announcement of FY 2025 allocation amounts (whichever comes first), is advised not to submit its consolidated plan/action plan until the FY 2025 formula allocations have been announced.

Nature of Requirement: The HOME program regulations provide for situations in which a participating jurisdiction may incur eligible administrative and planning costs against its HOME grant prior to the award of its grant from HUD. Likewise, the Entitlement CDBG program regulations provide for situations in which a grantee may incur costs against its CDBG grant prior to the award of its grant from HUD. For HOME, eligible administrative and planning costs may be incurred as of the beginning of the program year or the date HUD receives the consolidated plan describing the HOME allocation to which the costs will be charged, whichever is later. This waiver permits participating jurisdictions to incur eligible administrative and planning costs as of the beginning of the program year or the date HUD receives the consolidated plan describing the HOME allocation to which the costs will be charged, whichever is earlier. For CDBG, the effective date of a grantee's grant agreement is either the grantee's program year start date or the date HUD receives the grantee's annual action plan, whichever is later. This waiver allows grantees to treat the effective date of the FY 2025 program year as the grantee's program year start date or the date HUD receives the grantee's annual action plan, whichever is earlier.

Granted By: Marion McFadden, Principal Deputy Assistant Secretary for Community Planning and Development.

Date Granted: December 10, 2024.

Reason Waived: Under the provisions of the Notice, a grantee's action plan may not be submitted to (and thus received by) HUD until several months after the grantee's program year start date. Lengthy delays in the receipt of annual appropriations by HUD, and implementation of the policy to delay submission of FY 2025 Action Plans, may have negative consequences for CDBG grantees and HOME participating jurisdictions that intend to incur eligible costs prior to the award of FY 2025 funding. Some activities might otherwise be interrupted while implementing these revised procedures. In addition, grantees and participating jurisdictions might not otherwise be able to use CDBG or HOME funds for planning and administrative costs of administering their programs. In order to address communities' needs and to ensure that programs can continue without disturbance, this waiver allows grantees and participating jurisdictions to incur pre-award costs on a timetable comparable to that under which grantees have operated in past years. This waiver is available for use by any applicable CDBG grantee or HOME participating jurisdiction whose action plan submission is delayed past the normal submission date because of delayed enactment of FY 2025 appropriations for the Department. This waiver authority is only in effect until August 16, 2025, or until superseded by any rule that may become effective before that date.

Contact: James E. Höemann, Director, Entitlement Communities Division, Office of Community Planning and Development, Department of Housing and Urban Development, 451 7th Street SW, Room 7282, Washington, DC 20410, telephone (202) 402-5716.

• Regulation: 24 CFR 570.703 and 24 CFR 570.707.

Project/Activity: Section 108 Loan Guarantee—Waverly Winds Nine, Waverly Winds Four, and Ranleagh Court Project for Howard County, Maryland.

Nature of Requirement: HUD sought to guarantee Section 108 notes issued by an eligible public entity for the purpose of financing the acquisition, construction, reconstruction, or installation of public facilities. However, 24 CFR 570.703 and 570.707 requires eligible public entities to carry out eligible activities by the recipient through its employees or procurement contracts, through loans or grants with subrecipients, as defined by 24 CFR 570.500(c), or by one or more public agencies.

Granted by: Marion McFadden, Principal Deputy Assistant Secretary for Community Planning and Development.

Date Granted: December 6, 2024.

Reason Waived: Waiving these requirements allowed the eligible public entity to loan the Section 108 guaranteed loan funds to for-profit tax credit entities as subrecipients to carry out the eligible public facilities activities. Requiring that the eligible public entity or nonprofit subrecipients, as defined at 24 CFR 570.500(c), carry out the activities described in the Section 108 application would have reduced the eligible basis for each of the tax credit transactions, undermining financial feasibility. If the waiver was not granted, the three tax credit projects would not have been able to move forward, as each project would not have been able to obtain sufficient equity investments from the tax credit investors and still obtain the Section 108 guaranteed loan funds that were necessary gap financing for each project.

Contact: Seema Thomas, Deputy Director, Financial Management Division, Office of Community Planning and Development, Department of Housing and Urban Development, 451 7th Street SW, Room 7282, Washington, DC 20410, telephone: (202) 402-6266.

• Regulation: 24 CFR 92.300(a)(3).

Project/Activity: The City of Muskegon, Michigan, requested that HUD waive 24 CFR 92.300(a)(3) to permit a community housing development organization (CHDO) to transfer ownership of three HOME-assisted rental projects to a nonprofit organization, Inner City Christian Federation Community Homes.

Nature of Requirement: This provision requires that rental housing developed with CHDO set-aside funds under 24 CFR 92.300(a)(3) must be owned by the CHDO during development and for a period at least equal to the period of affordability in 24 CFR 92.252.

Granted by: Marion M. McFadden, Principal Deputy Assistant Secretary for Community Planning and Development.

Date Granted: November 12, 2024.

Reason Waived: The City provided HOME funds to Community enCompass, a CHDO, to develop three HOME-assisted rental projects. All three projects remain in their HOME periods of affordability and are subject to 24 CFR 92.300(a)(3). In December 2023, Community enCompass permanently ceased operations and can no longer manage or maintain the three HOME-assisted rental projects as affordable housing. Without a waiver, the HOME-assisted housing might fall into disrepair or be lost to foreclosure and the City would be required to repay the HOME funds invested.

Contact: Peter Huber, Acting Director, Office of Affordable Housing Programs, Office of Community Planning and Development, Department of Housing and Urban Development, 451 7th Street SW, Room 7160, Washington, DC 20410, telephone (202) 402-3941.

• Regulation: 24 CFR 93.400(d)(2).

Project/Activity: The District of Columbia requested a waiver of 24 CFR 93.400(d)(2) to extend the expenditure deadline for Fiscal Year 2019 Housing Trust Fund (HTF) funds which were committed to the 218 Vine Street project but not needed to complete the project, and to permit the District to commit and expend the funds for the 1109 Congress LIHTC Owner LLC project.

Nature of Requirement: The regulation at 24 CFR 93.400(d)(2) requires HUD to reduce or recapture any fiscal year grant funds in the District's HTF Treasury account that were not expended within five years after the date of HUD's execution of the HTF grant agreement.

Granted by: Marion M. McFadden, Principal Deputy Assistant Secretary for Community Planning and Development.

Date Granted: November 18, 2024.

Reason Waived: The Department determined that a waiver of the District's FY 2019 HTF expenditure requirement is justified because of the need to recommit previously committed HTF funds and the financing delays related to the 1109 Congress LIHTC Owner LLC project. This waiver ensures that HTF funds are not deobligated and that the District has sufficient resources to complete the construction of the 1109 Congress LIHTC Owner LLC project, which will provide needed affordable rental housing units for extremely low-income tenants.

Contact: Peter Huber, Acting Director, Office of Affordable Housing Programs, Office of Community Planning and Development, Department of Housing and Urban Development, 451 7th Street SW, Room 7160, Washington, DC 20410, telephone (202) 402-3941.

• Regulation: 24 CFR 92.252(d)(1).

Project/Activity: The State of New Hampshire requested a waiver of 24 CFR 92.252(d)(1) to allow the use of the utility allowance established by the local public housing agency (PHA) for Whittemore Place II, a HOME-assisted rental project.

Nature of Requirement: The HOME regulations at 24 CFR 92.252(d)(1) set requirements for participating jurisdictions to establish utility allowances in HOME-assisted rental projects and do not include the utility allowance established by the local public housing agency as an option. This conflicts with the Project Based Voucher Program regulations, which require use of the public housing agency's utility allowance.

Granted by: Marion M. McFadden, Principal Deputy Assistant Secretary for Community Planning and Development.

Date Granted: November 25, 2024.

Reason Waived: The HOME requirements for establishing utility allowances conflict with Project Based Voucher program requirements. It is not possible to use two different utility allowances to set the rent for a single unit, and it is an administrative burden to require a project owner to establish and implement different utility allowances for HOME-assisted and non-HOME-assisted units in a project. A waiver is required to permit the project to receive both funding sources.

Contact: Peter Huber, Acting Director, Office of Affordable Housing Programs, Office of Community Planning and Development, Department of Housing and Urban Development, 451 7th Street SW, Room 7160, Washington, DC 20410, telephone (202) 402-3941.

• Regulation: 24 CFR 92.252(d)(1).

Project/Activity: The cities of Bakersfield and Chico, California, and Los Angeles and Orange counties, California, requested waivers of 24 CFR 92.252(d)(1) to allow the use of the utility allowance established by the local public housing agency for the following HOME-assisted projects:

• Sagewood Apartments (Bakersfield, California)

• Creekside Place Apartments (Chico, California)

• Guadalupe Terrace (Los Angeles County, California)

• Willowbrook Townhomes (Los Angeles County, California)

• Casa Paloma (Orange County, California)

Nature of Requirement: The HOME regulations at 24 CFR 92.252(d)(1) set requirements for participating jurisdictions to establish utility allowances in HOME-assisted rental projects and do not include the utility allowance established by the local public housing agency as an option. This conflicts with the Project Based Voucher Program regulations, which require use of the public housing agency's utility allowance.

Granted by: Marion M. McFadden, Principal Deputy Assistant Secretary for Community Planning and Development.

Date Granted: December 10, 2024.

Reason Waived: The HOME requirements for establishing utility allowances conflict with Project Based Voucher program requirements. It is not possible to use two different utility allowances to set the rent for a single unit, and it is an administrative burden to require a project owner to establish and implement different utility allowances for HOME-assisted and non-HOME-assisted units in a project. A waiver is required to permit the project to receive both funding sources.

Contact: Peter Huber, Acting Director, Office of Affordable Housing Programs, Office of Community and Planning Development, Department of Housing and Urban Development, 451 7th Street SW, Room 7160, Washington, DC 20410, telephone (202) 402-3941.

• Regulation: 24 CFR 92.300(a)(3).

Project/Activity: The State of Oklahoma requested that HUD waive 24 CFR 92.300(a)(3) to permit a community housing development organization (CHDO) to transfer ownership of two HOME-assisted rental projects to another CHDO.

Nature of Requirement: This provision requires that rental housing developed with CHDO set-aside funds under 24 CFR 92.300(a)(3) must be owned by the CHDO for a period at least equal to the period of affordability in 24 CFR 92.252.

Granted by: Marion M. McFadden, Principal Deputy Assistant Secretary for Community Planning and Development.

Date Granted: December 23, 2024.

Reason Waived: The State provided HOME funds to Great Plains Improvement Foundation (GPIF), a CHDO, to develop two HOME-assisted rental projects, which are subject to HOME periods of affordability until 2036 and 2043, respectively. GPIF is dissolving due to financial hardship and not able to manage or maintain the HOME-assisted rental projects after July 15, 2024. In addition, the State determined that Community Action Development Corporation (CADC), a CHDO, has the administrative and financial capacity to purchase and manage the HOME-assisted projects in accordance with 24 CFR part 92. Without a waiver, the HOME-assisted housing may fall into disrepair, be lost to foreclosure, or fail to remain as affordable housing throughout the HOME period of affordability and the State would be required to repay the HOME funding. As a condition to the waiver, HUD required that CADC must assume the HOME written agreement and the State and CADC must record an amended deed restriction in compliance with 24 CFR 92.252 for the remainder of the HOME periods of affordability.

Contact: Peter Huber, Acting Director, Office of Affordable Housing Programs, Office of Community Planning and Development, Department of Housing and Urban Development, 451 7th Street SW, Room 7160, Washington, DC 20410, telephone (202) 402-3941.

○ Regulation: 24 CFR 93.400(d)(2).

Project/Activity: The State of New York requested a waiver of 24 CFR 93.400(d)(2) to extend the expenditure deadline for FY 2019 Housing Trust Fund (HTF) grant funds that are committed to the Highgarden Tower and National Urban League 125th Street projects.

Nature of Requirement: The regulation at 24 CFR 93.400(d)(2) requires HUD to reduce or recapture any fiscal year grant funds in the State's HTF Treasury account that are not expended within five years after the date of HUD's execution of the HTF grant agreement.

Granted by: Marion M. McFadden, Principal Deputy Assistant Secretary for Community Planning and Development.

Date Granted: December 23, 2024.

Reason Waived: The Department determined that there is sufficient good cause to grant a waiver of the requirement in 24 CFR 93.400(d)(2) to reduce or recapture the State's FY 2019 funds committed to the Highgarden Tower and National Urban League 125th Street projects because unanticipated delays in the permanent financing conversion process prevented the State from expending all the HTF funds committed to the projects before the five-year expenditure deadline. This waiver permits the State to retain funds committed to the Highgarden Tower and National Urban League 125th Street projects and prevents the potential loss of affordable units by extending the expenditure deadline for the State's FY 2019 HTF funds committed to the projects until June 30, 2025.

Contact: Peter Huber, Acting Director, Office of Affordable Housing Programs, Office of Community Planning and Development, Department of Housing and Urban Development, 451 7th Street SW, Room 7160, Washington, DC 20410, telephone (202) 402-3941.

• Regulation: 24 CFR 58.36.

Project/Activity: The Puerto Rico Department of Housing (PRDOH) requested a waiver for the ReGrow Puerto Rico Program agricultural activities, funded by Community Development Block Grant—Disaster Recovery (CDBG-DR), to permit utilization of categorical exclusions identified by the United States Department of Agriculture (USDA) Farm Service Agency (USDA-FSA) and adopted by HUD in FR-6492-N-01 pursuant to Section 109 of NEPA.

Nature of Requirement: The ReGrow Puerto Rico Program is subject to HUD's environmental review regulations at 24 CFR part 58. Since HUD predominantly supports residential and community development activity, the proposed agricultural projects supported in the ReGrow Puerto Rico Program fall outside the listed activities in 24 CFR 58 Subpart D—Environmental Review Process: Documentation, Range of Activities, Project Aggregation and Classification. As a result, these projects, many with a minimum potential to impact the environment, must be evaluated as an Environmental Assessment (EA) and require additional time and resources to complete compared to lower levels of environmental reviews like a Categorical Exclusion (CE). Pursuant to 24 CFR 58.36, Environmental Assessments, “If a project is not exempt or categorically excluded under §§ 58.34 and 58.35, the responsible entity must prepare an EA . . .”

Granted by: Marion M. McFadden, Principal Deputy Assistant Secretary for Community Planning and Development.

Date Granted: December 23, 2025.

Reason Waived: This temporary waiver issued to the PRDOH will allow the department to utilize specific CEs identified by the United States Department of Agriculture, Farm Service Agency (USDA-FSA), per 7 CFR 799 Subpart D—Categorical Exclusions, and adopted by HUD in FR-6492-N-01 through the Section 109 process of the National Environmental Policy Act (NEPA), enacted as part of the Fiscal Responsibility Act (FRA) of 2023. In total, there are eleven (11) applicable CEs adopted in FR-6492-N-01 that are consistent with ReGrow Puerto Rico's CDBG-DR funded program that can be utilized to document environmental compliance. Approximately 200 of the ReGrow Puerto Rico applications require an EA level of review under Part 58 but would be classified as one (1) of the eleven (11) adopted USDA-FSA CEs. These include such activities as minor rehabilitation of agricultural buildings and structures; fence repairs; installation of generators; new construction of agricultural structures for agricultural production and livestock; and farmland management activities. Through this waiver, PRDOH is permitted to utilize the adopted CEs listed in FR-6492-N-01, expediting the environmental reviews process to complete the remaining 100 projects. This will expedite the agricultural recovery efforts and will preserve the cost savings to address additional disaster recovery efforts.

Contact: Peter Huber, Acting Director, Office of Affordable Housing Programs, Office of Community Planning and Development, Department of Housing and Urban Development, 451 7th Street SW, Room 7160, Washington, DC 20410, telephone (202) 402-3941.

• Regulation: Section IV.D.1 of the Preservation and Reinvestment Initiative for Community Enhancement (PRICE) Competition Modification Notice of Funding Opportunity (NOFO).

Project/Activity: HUD waived the application submission deadline in the Fiscal Years 2023 and 2024 Preservation and Reinvestment Initiative for Community Enhancement (PRICE) Competition Modification Notice of Funding Opportunity (NOFO) to allow HUD to further consider for PRICE awards applications from the following applicants: Rural Economic Development Division, North Carolina Department of Commerce; City of Shreveport, Louisiana; State of Washington; and Tenshi Community Services Corp.

Nature of Requirement: Section IV.D.1 of the PRICE NOFO required applications to be submitted by 11:59:59 p.m. Eastern time on July 10, 2024. The Department of Housing and Urban Development Act, at 42 U.S.C. 3535(q), permits the Department to waive HUD regulations. including a NOFO published in the Federal Register, such as the PRICE NOFO, so long as the waiver is in writing and specifies the grounds for granting the waiver.

Granted By: Marion M. McFadden, Principal Deputy Assistant Secretary for Community Planning and Development.

Date Granted: November 21, 2024.

Reason Waived: From July 8 to July 11, 2024, heavy rain, flooding, landslides, and tornado outbreaks related to Hurricane Beryl resulted in power outages, communication service disruptions, and emergency response efforts across several states in the southern and eastern regions of the United States. Simultaneously, wildfires due to extreme heat led to emergency response efforts in several western states. Accordingly, the Department determined that it was appropriate to extend the PRICE NOFO application submission deadline to applicants who were affected by weather-related emergencies. Applicants who wished to use this waiver had to submit in writing by November 18, 2024, at 5:00 p.m. E.S.T., the circumstances that gave rise to the weather-related emergency and the applicant's late application submission for the PRICE NOFO. It was determined there was good cause to grant the application submission deadline waiver for applicants who submitted waiver requests by this deadline.

Continuum of Care Program

○ Regulation: 24 CFR 578.37(a)(1)(ii), 24 CFR 578.37(a)(l)(ii)(C) and 24 CFR 578.51(a)(1)(i).

Project/Activity: HUD granted a waiver of 24 CFR 578.37(a)(1)(ii), 24 CFR 578.37(a)(l)(ii)(C) and 24 CFR 578.51(a)(1)(i) to Southwest Solutions dba MiSide (MiSide), to permit rental assistance in Rapid Re-housing projects to exceed 24 months for program participants who will not be able to afford their rent without additional rental assistance.

Nature of Requirement: The CoC Program regulation at 24 CFR 578.37(a)(l)(ii) and 24 CFR 578.51(a)(1)(i) defines medium-term rental assistance as 3 to 24 months and 24 CFR 578.37(a)(1)(ii) and 24 CFR 578.37(a)(l)(ii)(C) limits rapid re-housing projects to medium-term rental assistance, or no more than 24 months.

Granted By: Marion M. McFadden, Principal Deputy Assistant Secretary for Community Planning and Development.

Date Granted: December 2, 2024.

Reason Waived: The Detroit Continuum of Care (CoC, MI-501) changed its Coordinated Entry prioritization for rapid rehousing (RRH) in April 2019 to serve a more at-risk population with RRH. This prioritization change was supported by a Housing Choice Voucher (HCV) waitlist preference from the Michigan State Housing Development Authority (MSHDA) for homeless households, which includes households exiting homelessness programs (sometimes referred to as a Moving On preference). Program participants in MiSide's RRH project frequently used the Moving On preference from MSHDA to continue receiving housing assistance when the participant's time frame in the RRH project ended. Due to a budget shortfall in the HCV program at MSHDA, effective July 1, 2024, MSHDA closed its HCV waiting list and stated that the HCV waiting list will be closed indefinitely. As a result, RRH clients at MiSide are not able to identify on-going housing subsidies that allow them to retain housing.

HUD homelessness programs are designed to assist program participants to quickly obtain and maintain stable housing. MI-501's change in prioritization to match high acuity individuals with RRH programs contributes to this goal; however, without continued housing subsidies, many of these high acuity individuals and families will return to homelessness after the 24-month limit on rental assistance. Therefore, in order to provide additional time for program staff to identify on-going rental subsidies or affordable housing options for program participants, HUD determined that there is good cause for a waiver of 24 CFR 578.37(a)(1)(ii) and 24 CFR 578.51(a)(1)(i) that define medium term rental assistance from 3 to 24 months and waiving 24 CFR 578.37(a)(l)(ii)(C) which limits rapid rehousing assistance to no more than 24 months.

Contact: Norm Suchar, Director, Office of Special Needs Assistance Programs, Office of Community Planning and Development, Department of Housing and Urban Development, 451 7th Street SW, Room 7262, Washington, DC 20410, telephone (202) 708-4300.

Emergency Solutions Grants Program

• Regulation: 24 CFR 576.106(d)(1).

Project/Activity: HUD granted a waiver of 24 CFR 576.106(d)(1) to the California Department of Housing and Community Development (HCD) to allow its subrecipients use Emergency Solutions Grants (ESG) Program Rapid Re-housing (RRH) and Homelessness Prevention (HP) funds for housing units with rents that exceed the HUD-established Fair Market Rent (FMR) requirements in the following areas: Alameda County, Alpine County, Amador County, Butte County, Calaveras County, City of Berkeley, Colusa County, Contra Costa County, Del Norte County, El Dorado County, Fresno County, Glenn County, Humboldt County, Imperial County, Inyo County, Kern County, Kings County, Lake County, Lassen County, Los Angeles County, Madera County, Marin County, Mariposa County, Mendocino County, Merced County, Modoc County, Mono County, Monterey County, Napa County, Nevada County, Orange County, Placer County, Plumas County, Riverside County, Sacramento County, San Benito County, San Bernardino County, San Diego County, San Joaquin County, San Luis Obispo County, San Mateo County, Santa Barbara County, Santa Clara County, Santa Cruz County, Shasta County, Sierra County, Siskiyou County, Solano County, Sonoma County, Stanislaus County, Sutter County, Tehama County, Tri-Cities (Claremont, La Verne, Pomona), Trinity County, Tulare County, Tuolumne County, Ventura County, Yolo County and Yuba County. HCD and its subrecipients must still comply with the rent reasonableness requirements in 24 CFR 576.106(d)(1). Subject to funding availability and unless otherwise provided by HUD, the recipient may also apply this waiver to a later fiscal year ESG grant under the same conditions that are stated above for the recipient's current ESG grants.

In addition to providing waiver flexibilities to HCD, the December 26, 2024 memorandum provides a simplified notification process for ESG recipients in California to use the waiver flexibilities to expedite the delivery of ESG rental assistance.

Nature of Requirement: 24 CFR 576.106(d)(1) provides that rental assistance cannot be provided unless the total rent is equal to or less than the FMR established by HUD, as provided under 24 CFR part 888, and complies with HUD's standard of rent reasonableness, as established under 24 CFR 982.507.

Granted By: Marion M. McFadden, Principal Deputy Assistant Secretary for Community Planning and Development.

Date Granted: December 26, 2024.

Reason Waived: Because ESG rental assistance is time-limited, and program participants must find other rental assistance or pay the full rent to stay housed at the program's end, HUD's FMR-based restriction in 24 CFR 576.106(d)(t) serves dually as safeguard and benchmark for successful housing placements. In some cases, though, allowing rental assistance only in units that rent at or below HUD's FMR can impede rather than promote the efficient use of ESG assistance. In this case, HUD has received information showing the current FMR is not an accurate reflection of the rental market in affected areas identified by the recipient. The state reports that average rents are consistently higher than FMR limits for the affected areas. HCD provided data showing that, on average, communities report actual rents 15 percent higher than FY 2025 FMRs. Average rent amounts for one-bedroom units range from 7 percent greater than FMR in Santa Clara County, CA to 46 percent greater than FMR in Colusa County, CA. Average rent amounts for two-bedroom units in the affected areas range from 1.8 percent greater than FMR in Imperial County, CA to 44 percent greater than FMR in Mono County, NY. Because renting at any amount over FMR disqualifies a unit as an eligible option for ESG assistance, these consistently higher-than-FMR average rent amounts, coupled with a tight rental market, continue to hamper the network of providers in their ability to provide permanent housing solutions to households in crisis. In circumstances like these, the costs of the FMR-based restriction seem to outweigh its benefits due to the challenge of finding units that meet FMR requirements.

Contact: Norm Suchar, Director, Office of Special Needs Assistance Programs, Office of Community Planning and Development, Department of Housing and Urban Development, 451 7th Street SW, Room 7262, Washington, DC 20410, telephone (202) 708-4300.

• Regulation: 24 CFR 576.106(e).

Project/Activity: HUD granted a waiver of 24 CFR 576.106(e) to the California Department of Housing and Community Development (HCD) to allow two of its subrecipients, Arcata House Partnership and Mendocino County Health and Human Services Agency, to provide rental assistance in units they own without entering into a rental assistance agreement with the owner.

Nature of Requirement: Section 576.106(e) provides that the recipient or subrecipient may make rental assistance payments only to an owner with whom the recipient or subrecipient has entered into an agreement that sets forth the terms under which rental assistance will be provided. HUD implemented the rental assistance agreement requirement to ensure that a legal document establishes the type, amount, maximum time period, and other conditions of rental assistance to be paid with ESG funds. The rental assistance agreement requirement helps protect recipients and subrecipients by ensuring rental assistance payments are only made to owners who agree to be legally bound to the specific conditions imposed on those payments. But more importantly, the agreement protects the program participant by ensuring the subrecipient or recipient pays the subsidy on time and as specified in the agreement, and the owner applies those payments to the program participant's rent. Finally, the agreement provides a source document to support the costs charged to the grant and a record to show the rental assistance was administered in accordance with applicable requirements.

Granted By: Marion M. McFadden, Principal Deputy Assistant Secretary for Community Planning and Development.

Date Granted: December 26, 2024.

Reason Waived: According to HCD, there are a limited number of service providers in the geographic area in Humbolt and Mendicino Counties that are served by these organizations. Despite its attempt to identify other potential subrecipients located in this large rural area, HCD needed to partner with Arcata House Partnerships and Mendocino County Health and Human Services Agency to ensure this region has access to assistance.

Further, the vacancy rate in California is 5.2 percent for the second quarter of 2024, according to iPropertyManagement.com, compared to a rate of 6.6 percent nationally for the same time period. One way the state is attempting to increase housing stock is through Homekey, where HCD's subrecipients both own housing and operate homeless programs. The ESG rental assistance agreement requirement prevents HCD's subrecipients from providing tenant-based rental assistance to program participants in the units they own, however, because a subrecipient cannot enter into the required rental assistance agreement with itself (as both the subrecipient and the owner). This requirement thereby limits HCD's ability to leverage innovative state projects like Homekey, which significantly increases the number of rental units available to program participants. This limitation also eliminates the available housing providers in a large rural area that would otherwise not have service coverage.

The waiver would only be used to allow Arcata House Partnership and Mendocino County Health and Human Services Agency to provide RRH tenant-based rental assistance (TBRA) to program participants who choose to live in units these subrecipients own. This waiver does not apply to project-based rental assistance.

As part of this waiver request, HCD proposes that its subrecipients, Arcata House Partnership and Mendocino County Health and Human Services Agency, continue their current practice of supporting the costs charged to the grant and setting forth the terms of the tenant's rental assistance (including subsidy amount and period of assistance) in the lease, which includes all tenants as signatories. HCD further indicates that HCD will conduct closer, more frequent monitoring of the subrecipients utilizing this waiver, including unit site visits, review of rent reasonableness documentation, and compliance with habitability standards at 24 CFR 576.403.

Contact: Norm Suchar, Director, Office of Special Needs Assistance Programs, Office of Community Planning and Development, Department of Housing and Urban Development, 451 7th Street SW, Room 7262, Washington, DC 20410, telephone (202) 708-4300.

II. Regulatory Waivers Granted by the Office of Housing

For further information about the following regulatory waivers, please see the name of the contact person that immediately follows the description of the waiver granted.

• Regulation: 24-CFR 200.73(c) Property Development.

Project/Activity: Boston, Massachusetts.

Nature of Requirement: The regulation requires that a site contains at least 5 rental dwelling units and reads as follows:

(c) The improvements shall constitute a single project. Not less than five rental dwelling units or personal care units, 20 medical care beds, or 50 manufactured home pads, shall be on one site, except that such limitations do not apply to group practice facilities.

Granted by: Julia R. Gordon, Assistant Secretary for Housing.

Date Granted: November 26, 2024.

Reason Waived: The project serves very low-income families. Historically, there has been one Section 8 Housing Assistance Payment Contract for the project since 1971. The new HAP Contract will be in effect for 21 years (20-year renewal term with a 1-year preservation tail). HUD staff reviewed the submitted exhibits and believes that this waiver will meet HUD's goal of preserving and maintaining affordable rental housing for low-income families.

Pursuant to the authority contained in 24 CFR 5.110, good cause has been shown that it is in the public's best interest to approve this waiver. Therefore, 24 CFR 200.73 (c) is hereby waived. This waiver is for this specific project only.

Contact: Stacey Ashmore, Multifamily Housing Production Director, Northeast Region, Office of Housing, Department of Housing and Urban Development, Room 3214—NYC Office, email: Stacey.L.Ashmore@hud.gov, telephone (212) 542-7840.

III. Regulatory Waivers Granted by the Office of Public and Indian Housing

For further information about the following regulatory waivers, please see the name of the contact person that immediately follows the description of the waiver granted.

• Regulation: 24 CFR 983.301(f)(4).

Nature of Requirement: HUD may establish a process allowing PHAs to adopt project-specific utility allowances by notification in the Federal Register subject to public comment. Absent the establishment of such a project-specific utility allowance, the PHA's utility allowance schedule as determined under 24 CFR 982.517(b)(2)(i) or (ii) applies to both the tenant-based and PBV programs.

Project/Activity: Waco Housing Authority (WHA).

Granted By: Richard Monocchio, Principal Deputy Assistant Secretary for Public and Indian Housing.

Date Granted: December 3, 2025.

Reason Waived: HUD waived 24 CFR 983.301(f)(4) due to good cause. WHA has successfully made that case that this waiver will promote utility conservation and align utility allowances with the consumption rates of residents. After the project has been occupied for a year, the WHA is required to review the utility allowances compared with the actual 12 months of occupancy to ensure that the utility allowances provided to tenants are consistent with the actual utility usage and costs.

Contact: Jerone L. Anderson, Housing Programs Specialist, Housing Voucher Management and Operations Division, Office of Public and Indian Housing, Department of Housing and Urban Development, 451 7th Street SW, Room, Washington, DC 20410, email: Jerone.L.Anderson@hud.gov, telephone (202) 402-6709.

• Regulation: 24 CFR 983.52(c), 983.258, 983.211, and 983.301.

Nature of Requirement: 24 CFR 983.52(c): Before a PHA places a specific unit under a HAP contract, the PHA must determine whether the unit is occupied and, if occupied, whether the unit's occupants are eligible for assistance in accordance with § 982.201 of this title. Additionally, for a family to be eligible for assistance in the specific unit, the unit must be appropriate for the size of the family under the PHA's subsidy standards and the total tenant payment for the family must be less than the gross rent for the unit, such that the unit will be eligible for a monthly HAP. The PHA must not enter into a HAP contract for a unit occupied by a family ineligible for participation in the PBV program.

• 24 CFR 983.258: Housing assistance payments shall continue until the tenant rent equals the rent to owner. The cessation of housing assistance payments at such point will not affect the family's other rights under its lease, nor will such cessation preclude the resumption of payments as a result of later changes in income, rents, or other relevant circumstances if such changes occur within 180 days following the date of the last housing assistance payment by the PHA. After the 180-day period, the unit shall be removed from the HAP contract pursuant to § 983.211.

• 24 CFR 983.211: (a) Removal of a unit based on a family's increased income. Units occupied by families whose income has increased during their tenancy resulting in the total tenant payment equaling the gross rent shall be removed from the HAP contract 180 days following the last housing assistance payment on behalf of the family. (b) Reinstatement or substitution of HAP contracts. If the project is fully assisted, a PHA may reinstate the unit removed under paragraph (a) of this section to the HAP contract after the ineligible family vacates the property. If the project is partially assisted, a PHA may substitute a different unit for the unit removed under paragraph (a) of this section to the HAP contract when the first eligible substitute becomes available. A reinstatement or substitution of units under the HAP contract, in accordance with this paragraph, must be permissible under § 983.207(b) or (a), respectively. (c) Additional requirements. The anniversary and expirations dates of the reinstated or substituted unit must be the same as all other units under the HAP contract (i.e., the annual anniversary and expiration dates for the first contract units placed under the HAP contract). Families must be selected in accordance with program requirements under § 983.251 of this part.

• 24 CFR 983.301: (a) Initial and redetermined rents. (1) The amount of the initial and redetermined rent to owner is determined in accordance with this section and § 983.302. (2) The amount of the initial rent to owner is established at the beginning of the HAP contract term. For rehabilitated or newly constructed housing, the Agreement states the estimated amount of the initial rent to owner, but the actual amount of the initial rent to owner is established at the beginning of the HAP contract term. (3) The rent to owner is also redetermined in accordance with § 983.302. (b) Amount of rent to owner. Except for certain tax credit units as provided in paragraph (c) of this section, the rent to owner must not exceed the lowest of (1) An amount determined by the PHA in accordance with the Administrative Plan not to exceed 110 percent of the applicable fair market rent (or the amount of any applicable exception payment standard) for the unit bedroom size minus any utility allowance; (2) The reasonable rent; or (3) The rent requested by the owner. (c) Rent to owner for certain tax credit units. (1) This paragraph (c) applies if: (i) A contract unit receives a low-income housing tax credit under the Internal Revenue Code of 1986 (see 26 U.S.C. 42); (ii) The contract unit is not located in a qualified census tract; (iii) In the same building, there are comparable tax credit units of the same unit bedroom size as the contract unit and the comparable tax credit units do not have any form of rental assistance other than the tax credit; and (iv) The tax credit rent exceeds the applicable fair market rental (or any exception payment standard) as determined in accordance with paragraph (b) of this section. (2) In the case of a contract unit described in paragraph (c)(1) of this section, the rent to owner must not exceed the lowest of: (i) An amount determined by the PHA in accordance with the Administrative Plan, not to exceed the tax credit rent minus any utility allowance; (ii) The reasonable rent; or (iii) The rent requested by the owner. (3) The “tax credit rent” is the rent charged for comparable units of the same bedroom size in the building that also receive the low-income housing tax credit but do not have any additional rental assistance (e.g., additional assistance such as tenant-based voucher assistance). (4) A “qualified census tract” is any census tract (or equivalent geographic area defined by the Bureau of the Census) in which: (i) At least 50 percent of households have an income of less than 60 percent of Area Median Gross Income (AMGI); or (ii) Where the poverty rate is at least 25 percent and where the census tract is designated as a qualified census tract by HUD. (d) Rent to owner for other tax credit units. Except in the case of a tax-credit unit described in paragraph (c)(1) of this section, the rent to owner for all other tax credit units may be determined by the PHA pursuant to paragraph (b) of this section. (e) Reasonable rent. The PHA shall determine the reasonable rent in accordance with § 983.303. The rent to the owner for each contract unit may at no time exceed the reasonable rent, except in cases where, the PHA has elected within the HAP contract not to reduce rents below the initial rent to owner and, upon redetermination of the rent to owner, the reasonable rent would result in a rent below the initial rent. If the PHA has not elected within the HAP contract to establish the initial rent to owner as the rent floor, the rent to owner shall not at any time exceed the reasonable rent. (f) Use of FMRs and utility allowance schedule in determining the amount of rent to owner. (1) When determining the initial rent to owner, the PHA shall use the most recently published FMR in effect and the utility allowance schedule in effect at execution of the HAP contract. At its discretion, the PHA may use the amounts in effect at any time during the 30-day period immediately before the beginning date of the HAP contract. (2) When redetermining the rent to owner, the PHA shall use the most recently published FMR and the PHA utility allowance schedule in effect at the time of redetermination. At its discretion, the PHA may use the amounts in effect at any time during the 30-day period immediately before the redetermination date. (3) (i) For PBV projects that are not located in a designated SAFMR area under 24 CFR 888.113(c)(1), or for PBV projects not located in a ZIP code where the PHA has opted in under 24 CFR 888.113(c)(3), any exception payment standard amount approved under 24 CFR 982.503(d)(2)-(4) applies for purposes of paragraphs (b)(1) and (c)(1)(iv) of this section. HUD will not approve a different payment standard amount for use in the PBV program. (ii) For PBV projects that are located in a designated SAFMR area under 24 CFR 888.113(c)(1), or for PBV projects located in a ZIP code where the PHA has opted in under 24 CFR 888.113(c)(3), an exception payment standard amount approved under 24 CFR 982.503(d)(3)-(4) will apply for purposes of paragraphs (b)(1) and (c)(1)(iv) of this section only if the PHA has adopted a policy applying SAFMRs to its PBV program and met all other requirements in accordance with 24 CFR 888.113(h). (4) HUD may establish a process allowing PHAs to adopt project-specific utility allowances by notification in the Federal Register subject to public comment. Absent the establishment of such a project-specific utility allowance, the PHA's utility allowance schedule as determined under 24 CFR 982.517(b)(2)(i) or (ii) applies to both the tenant-based and PBV programs. (5) The PHA must continue to use the applicable utility allowance schedule for the purpose of determining the initial rent to owner and redetermining the rent to owner for contract units, as outlined in this 24 CFR 983.301, regardless of whether the PHA approves a higher utility allowance as a reasonable accommodation for a person with disabilities living in a contract unit (see 24 CFR 982.517(e)). (g) PHA-owned units. For PHA-owned PBV units, the initial rent to owner and the annual redetermination of rent at the annual anniversary of the HAP contract must be determined by the independent entity approved by HUD in accordance with § 983.57. The PHA must use the rent to owner established by the independent entity.

Project/Activity: Vancouver Housing Authority (VHA).

Granted By: Richard Monocchio, Principal Deputy Assistant Secretary for Public and Indian Housing.

Date Granted: October 8, 2024.

Reason Waived: The standard for approval of such a waiver request is described in Section 1.6.C.9 of the RAD Notice. In order for the waiver to be approved, the public housing authority (PHA) must demonstrate that based on the RAD rent calculated in accordance with Attachment 1C of the RAD Notice, the monthly two-bedroom RAD Gross Rent is less than 30 percent of the monthly income of a family of four at the midpoint between the Very Low Income (VLI) HUD Income Limit and Extremely Low Income (ELI) HUD Income Limit for the area in which the Covered Project is located. The VHA has demonstrated the monthly 2-bedroom units RAD Gross Rent is less than 30 percent of the monthly income of a family of four at the midpoint between the VLI HUD Income Limit and ELI HUD Income Limit for the area in which the Covered Projects are located through the following calculation: 2 For a family of four in Clark County, the VLI is $59,000 and ELI is $35,400. The midpoint is $47,200, 30 percent of the midpoint is $1,180 per month. The monthly RAD Gross Rent for a two-bedroom unit at each property is as follows: 1. Allegro Pointe: $939 2. VHA Apartment Homes Properties: $584 Accordingly, the Covered Projects are eligible for the waiver.

Contact: Jerone L. Anderson, Housing Programs Specialist, Housing Voucher Management and Operations Division, Office of Public and Indian Housing, Department of Housing and Urban Development, 451 7th Street SW, Room, Washington, DC 20410, email: Jerone.L.Anderson@hud.gov, telephone (202) 402-6709.

○ Regulation: 24 CFR 982.201(e) and 983.251(a)(2), 24 CFR 960.259(a), (a)(1), (a)(2), (c) and (c)(1).

Nature of Requirement: These regulations pertain to the verification of date of birth, income, and disability status, as well as the eligibility determination, for the HCV, PBV, and PH programs.

Project/Activity: Housing Authority for the City of Pittsburgh's (HACP).

Granted By: Richard Monocchio, Principal Deputy Assistant Secretary for Public and Indian Housing.

Date Granted: October 7, 2024.

Reason Waived: The HACP justifies the need for the waivers as follows:

○ According to Allegheny County's Department of Human Services (DHS), 1,026 individuals were experiencing homelessness on a single night in January 2024 in the county in which the HACP operates. This was an increase from the 2023 Point-in-Time count of 913 (12.3 percent).

○ The need for affordable housing in Pittsburgh was evident when the HACP opened its waiting list in March 2024 and had over 11,000 applicants in five days.

• The HACP has a homeless preference for its HCV, PBV, and Public Housing waiting lists, and has partnered with the Allegheny County DHS, the area's Continuum of Care, for referrals.

○ The HACP has housed 133 homeless families since 2021 through the Emergency Housing Voucher (EHV) program and has joined a local initiative to house 500 homeless families in 500 days.

○ During EHV program implementation, the HACP found that even with caseworker support, gathering identity and income documentation caused delays.

○ The process of obtaining a photo identification in Pennsylvania typically takes between 10-20 days with a cost of $42.50; obtaining a Social Security card takes approximately 14 days from the date of the appointment at the Social Security Administration office, but the wait for an appointment can be several weeks long; and birth certificates typically take about two weeks to process with a cost of $30 (which can be waived).

○ If all three documents need to be obtained, the process can take up to 48 days.

○ Homeless families often change addresses or phone numbers, which complicates communication and follow-up in obtaining these documents.

HUD found this to be good cause and has granted the aforementioned waivers.

Contact: Susannah Roetlin, Housing Programs Specialist, Housing Voucher Management and Operations Division, Office of Public and Indian Housing, Department of Housing and Urban Development, 451 7th Street SW, email: Susannah.S.Roetlin@hud.gov.

• Regulation: 24 CFR 5.801(d)(1) and 24 CFR 902.62(a)(3).

Nature of Requirement: 24 CFR 5.801(d)(1): For PHAs listed in paragraphs (a)(1) and (a)(2) of this section, the requirements of this section will begin with those PHAs with fiscal years ending September 30, 1999 and later. Unaudited financial statements will be required 60 days after the PHA's fiscal year end, and audited financial statements will then be required no later than 9 months after the PHA's fiscal year end, in accordance with the Single Audit Act and 2 CFR part 200, subpart F. A PHA with a fiscal year ending September 30, 1999 that elects to submit its unaudited financial report earlier than the due date of November 30, 1999 must submit its report as required in this section. On or after September 30, 1998, but prior to November 30, 1999 (except for a PHA with its fiscal year ending September 30, 1999), PHAs may submit their financial reports in accordance with this section.

24 CFR 902.62(a)(3): The PHA's audited financial statement must be received no later than 9 months after the PHA's fiscal year-end, in accordance with the Single Audit Act and 2 CFR part 200, subpart F. If the audited financial statement is not received by that date, the PHA will receive a presumptive rating of failure for the financial condition indicator.

Project/Activity: Ironton Metropolitan Housing Authority (IMHA).

Granted By: Richard Monocchio, Principal Deputy Assistant Secretary for Public and Indian Housing.

Date Granted: October 8, 2024.

Reason Waived: The IMHA stated that the departure of the previous administration and subsequent loss of access to necessary software has delayed the fiscal year-end close, and additional time is needed to prepare for and complete the audit. Additionally, the Ohio Auditor of State office cannot commence the audit until August 2024, which is beyond the control of the IMHA. HUD found this to be good cause and granted the waiver.

Contact: Lara Philbert, Assessment Manager, Integrated Assessment Team, Public and Indian Housing, Department of Housing and Urban Development, 451 7th Street SW, Washington, DC 20410, telephone (202) 475-8930, email: lara.philbert@hud.gov.

• Regulation: 24 CFR 983.52(d) and 983.154(d).

Nature of Requirement: 24 CFR 983.52(d): Unless a PHA has exercised the discretion at § 983.154(f), to undertake development activity without an Agreement or to execute an Agreement after construction or rehabilitation that complied with applicable requirements of § 983.153 has commenced, or at § 983.157, to undertake development activity after execution of the HAP contract, the PHA may not execute a HAP contract for units on which construction or rehabilitation commenced after the date of proposal submission (for housing subject to competitive selection) or the date of the PHA's board resolution approving the project-basing of assistance at the project (for housing excepted from competitive selection) and prior to the effective date of an Agreement. At HUD's sole discretion, HUD may approve a PHA's request for an exception to this prohibition. In determining whether to approve the PHA request, HUD will consider appropriate factors, including the nature and extent of the construction or rehabilitation that has commenced. 24 CFR § 983.154(d).

Project/Activity: Norwalk Housing Authority (NHA).

Granted By: Richard Monocchio, Principal Deputy Assistant Secretary for Public and Indian Housing.

Date Granted: October 22, 2024.

Reason Waived: The good cause prompting this waiver request is the potential for the vacant buildings to invite criminal activity or unauthorized occupancy, which will negatively impact the community's safety. Further, unless demolition and remediation can commence immediately, the redevelopment timeline and budget will be exposed to delays and cost escalation that put the financing and overall project at risk. HUD found this to be good cause and granted the waiver.

Contact: Jerone L. Anderson, Housing Programs Specialist, Housing Voucher Management and Operations Division, Office of Public and Indian Housing, Department of Housing and Urban Development, 451 7th Street SW, Room, Washington, DC 20410, email: Jerone.L.Anderson@hud.gov, telephone (202) 402-6709.

• Regulation: 24 CFR 983.52(c), 983.251(a)(2), 983.258, 983.211, 983.301, and 983.353(b)(1).

Nature of Requirement: 24 CFR 983.52(c): Before a PHA places a specific unit under a HAP contract, the PHA must determine whether the unit is occupied and, if occupied, whether the unit's occupants are eligible for assistance in accordance with § 982.201 of this title. Additionally, for a family to be eligible for assistance in the specific unit, the unit must be appropriate for the size of the family under the PHA's subsidy standards and the total tenant payment for the family must be less than the gross rent for the unit, such that the unit will be eligible for a monthly HAP. The PHA must not enter into a HAP contract for a unit occupied by a family ineligible for participation in the PBV program.

○ 24 CFR 983.251(a)(2): Except for voucher participants (determined eligible at original admission to the voucher program), the PHA may only select families determined eligible for admission at commencement of PBV assistance, using information received and verified by the PHA within a period of 60 days before commencement of PBV assistance. For all families, the PHA must determine the total tenant payment for the family is less than the gross rent, such that the unit will be eligible for a monthly HAP.

○ 24 CFR 983.258: Housing assistance payments shall continue until the tenant rent equals the rent to owner. The cessation of housing assistance payments at such point will not affect the family's other rights under its lease, nor will such cessation preclude the resumption of payments as a result of later changes in income, rents, or other relevant circumstances if such changes occur within 180 days following the date of the last housing assistance payment by the PHA. After the 180-day period, the unit shall be removed from the HAP contract pursuant to § 983.211.

○ 24 CFR 983.211: (a) Removal of a unit based on a family's increased income. Units occupied by families whose income has increased during their tenancy resulting in the total tenant payment equaling the gross rent shall be removed from the HAP contract 180 days following the last housing assistance payment on behalf of the family. (b) Reinstatement or substitution of HAP contracts. If the project is fully assisted, a PHA may reinstate the unit removed under paragraph (a) of this section to the HAP contract after the ineligible family vacates the property. If the project is partially assisted, a PHA may substitute a different unit for the unit removed under paragraph (a) of this section to the HAP contract when the first eligible substitute becomes available. A reinstatement or substitution of units under the HAP contract, in accordance with this paragraph, must be permissible under § 983.207(b) or (a), respectively. (c) Additional requirements. The anniversary and expirations dates of the reinstated or substituted unit must be the same as all other units under the HAP contract (i.e., the annual anniversary and expiration dates for the first contract units placed under the HAP contract). Families must be selected in accordance with program requirements under § 983.251 of this part.

○ 24 CFR § 983.301: (a) Initial and redetermined rents. (1) The amount of the initial and redetermined rent to owner is determined in accordance with this section and § 983.302. (2) The amount of the initial rent to owner is established at the beginning of the HAP contract term. For rehabilitated or newly constructed housing, the Agreement states the estimated amount of the initial rent to owner, but the actual amount of the initial rent to owner is established at the beginning of the HAP contract term. (3) The rent to owner is also redetermined in accordance with § 983.302. (b) Amount of rent to owner. Except for certain tax credit units as provided in paragraph (c) of this section, the rent to owner must not exceed the lowest of(1) An amount determined by the PHA in accordance with the Administrative Plan not to exceed 110 percent of the applicable fair market rent (or the amount of any applicable exception payment standard) for the unit bedroom size minus any utility allowance; (2) The reasonable rent; or (3) The rent requested by the owner. (c) Rent to owner for certain tax credit units. (1) This paragraph (c) applies if: (i) A contract unit receives a low-income housing tax credit under the Internal Revenue Code of 1986 (see 26 U.S.C. 42);(ii) The contract unit is not located in a qualified census tract; (iii) In the same building, there are comparable tax credit units of the same unit bedroom size as the contract unit and the comparable tax credit units do not have any form of rental assistance other than the tax credit; and (iv) The tax credit rent exceeds the applicable fair market rental (or any exception payment standard) as determined in accordance with paragraph (b) of this section. (2) In the case of a contract unit described in paragraph (c)(1) of this section, the rent to owner must not exceed the lowest of: (i) An amount determined by the PHA in accordance with the Administrative Plan, not to exceed the tax credit rent minus any utility allowance; (ii) The reasonable rent; or (iii) The rent requested by the owner. (3) The “tax credit rent” is the rent charged for comparable units of the same bedroom size in the building that also receive the low-income housing tax credit but do not have any additional rental assistance (e.g., additional assistance such as tenant-based voucher assistance). (4) A “qualified census tract” is any census tract (or equivalent geographic area defined by the Bureau of the Census) in which: (i) At least 50 percent of households have an income of less than 60 percent of Area Median Gross Income (AMGI); or (ii) Where the poverty rate is at least 25 percent and where the census tract is designated as a qualified census tract by HUD. (d) Rent to owner for other tax credit units. Except in the case of a tax-credit unit described in paragraph (c)(1) of this section, the rent to owner for all other tax credit units may be determined by the PHA pursuant to paragraph (b) of this section. (e) Reasonable rent. The PHA shall determine the reasonable rent in accordance with § 983.303. The rent to the owner for each contract unit may at no time exceed the reasonable rent, except in cases where, the PHA has elected within the HAP contract not to reduce rents below the initial rent to owner and, upon redetermination of the rent to owner, the reasonable rent would result in a rent below the initial rent. If the PHA has not elected within the HAP contract to establish the initial rent to owner as the rent floor, the rent to owner shall not at any time exceed the reasonable rent. (f) Use of FMRs and utility allowance schedule in determining the amount of rent to owner. (1) When determining the initial rent to owner, the PHA shall use the most recently published FMR in effect and the utility allowance schedule in effect at execution of the HAP contract. At its discretion, the PHA may use the amounts in effect at any time during the 30-day period immediately before the beginning date of the HAP contract. (2) When redetermining the rent to owner, the PHA shall use the most recently published FMR and the PHA utility allowance schedule in effect at the time of redetermination. At its discretion, the PHA may use the amounts in effect at any time during the 30-day period immediately before the redetermination date. (3) (i) For PBV projects that are not located in a designated SAFMR area under 24 CFR 888.113(c)(1), or for PBV projects not located in a ZIP code where the PHA has opted in under 24 CFR 888.113(c)(3), any exception payment standard amount approved under 24 CFR 982.503(d)(2)-(4) applies for purposes of paragraphs (b)(1) and (c)(1)(iv) of this section. HUD will not approve a different payment standard amount for use in the PBV program. (ii) For PBV projects that are located in a designated SAFMR area under 24 CFR 888.113(c)(1), or for PBV projects located in a ZIP code where the PHA has opted in under 24 CFR 888.113(c)(3), an exception payment standard amount approved under 24 CFR 982.503(d)(3)-(4) will apply for purposes of paragraphs (b)(1) and (c)(1)(iv) of this section only if the PHA has adopted a policy applying SAFMRs to its PBV program and met all other requirements in accordance with 24 CFR 888.113(h). (4) HUD may establish a process allowing PHAs to adopt project-specific utility allowances by notification in the Federal Register subject to public comment. Absent the establishment of such a project-specific utility allowance, the PHA's utility allowance schedule as determined under 24 CFR 982.517(b)(2)(i) or (ii) applies to both the tenant-based and PBV programs. (5) The PHA must continue to use the applicable utility allowance schedule for the purpose of determining the initial rent to owner and redetermining the rent to owner for contract units, as outlined in this 24 CFR 983.301, regardless of whether the PHA approves a higher utility allowance as a reasonable accommodation for a person with disabilities living in a contract unit (see 24 CFR 982.517(e)). (g) PHA-owned units. For PHA-owned PBV units, the initial rent to owner and the annual redetermination of rent at the annual anniversary of the HAP contract must be determined by the independent entity approved by HUD in accordance with § 983.57. The PHA must use the rent to owner established by the independent entity.

○ 24 CFR 983.353(b)(1): The family is responsible for paying the tenant rent (total tenant payment minus the utility allowance).

Project/Activity: North Charleston Housing Authority (NCHA).

Granted by: Richard Monocchio, Principal Deputy Assistant Secretary for Public and Indian Housing.

Date Granted: October 23, 2024.

Reason Waived: The standard for approval of such a waiver request is described in Section 1.6.C.9 of the RAD Notice. In order for the waiver to be approved, the public housing authority (PHA) must demonstrate that based on the RAD rent calculated in accordance with Attachment 1C of the RAD Notice, the monthly two-bedroom RAD Gross Rent is less than 30 percent of the monthly income of a family of four at the midpoint between the Very Low Income (VLI) HUD Income Limit and Extremely Low Income (ELI) HUD Income Limit for the area in which the Covered Project is located. The NCHA has demonstrated the monthly two-bedroom RAD Gross Rent is less than 30 percent of the monthly income of a family of four at the midpoint between the VLI HUD Income Limit and the ELI HUD Income Limit for the area in which the Covered Projects are located. Accordingly, the Covered Projects are eligible for the requested waivers.

Contact: Ryan Jones, Director, Housing Voucher Management and Operations Division, Office of Public and Indian Housing, Department of Housing and Urban Development, 451 7th Street at 202-402-2677 or Ryan.E.Jones@hud.gov.

• Regulation: 24 CFR 982.201(e) and 983.251(a)(2).

Nature of Requirement: These regulations pertain to the verification of date of birth, income, and disability status, as well as the eligibility determination, for the HCV and PBV programs.

Project/Activity: Housing Authority of the City of Napa's (HACN).

Granted by: Richard Monocchio, Principal Deputy Assistant Secretary for Public and Indian Housing.

Date Granted: October 29, 2024.

Reason Waived: The HACN's justification of the need for the waivers is as follows:

○ The PHA is project-basing units for a significant number of persons experiencing homelessness. The PHA's local coordinated entry system/Continuum of Care is the point of entry for referral to these PBV units. Individuals seeking a PBV unit are continuing to experience delays with acquiring the documentation needed. When there are significant delays with documentation, the units remain vacant. The waivers would allow the HACN to conditionally move forward with the process, while documentation is acquired and processed. • In the last two years within the City of Napa there have been two new housing projects, totaling 144 units, that were primarily permanent supportive housing. Combined, these projects had 74 PBV units, and 98 coordinated entry dedicated units. With this focus, most of Napa's leasing in the last two years has been coordinated entry units.

○ Over the course of leasing the two permanent supportive housing projects, the Housing Authority team worked closely with the homeless services provider, talking almost daily. On average, HCV clients take 6-10 weeks to determine eligibility while the PHA found that clients in the coordinated entry system take 12-16 weeks to determine eligibility, even when working with the service provider. The most frequent documentation concern that the HACN sees related to folks experiencing homelessness is getting birth certificates and social security documentation. A recent example of an individual born to active military overseas delayed the homeless client's placement into housing by three months. Because birth certificates are managed at a county level and not centralized into a national database, the service provider is typically sleuthing to determine what county someone was born in. From there, many counties take eight or more weeks to send the birth certificate. Being able to place these households relieves the entire homeless system by freeing up beds and allowing others to cycle through to shelter.

○ The PHA is also actively pulling applicants from their HCV waiting list. Many of these applicants are experiencing homelessness. In the PHA's experience, all persons experiencing homelessness have faced similar barriers in collecting paperwork to qualify for the PHA's housing programs HUD found the above reasons to be good cause and granted the waiver.

Contact: Carmen Chow, Housing Programs Specialist, Housing Voucher Management and Operations Division, Public and Indian Housing, Department of Housing and Urban Development, Chicago Office, Room 2300, telephone (312) 913-8523, email Carmen.Chow@hud.gov.

• Regulation: 24 CFR 983.154(d), 24 CFR 983.52(d).

Nature of Requirement: 24 CFR 983.154(d): Development activity must not commence after the date of proposal submission (for housing subject to competitive selection) or the date of the PHA's board resolution approving the project-basing of assistance at the project (for housing excepted from competitive selection) and before the effective date of the Agreement, except as provided in paragraphs (f) and (g) of this section. 24 CFR 983.52(d): Unless a PHA has exercised the discretion at § 983.154(f), to undertake development activity without an Agreement or to execute an Agreement after construction or rehabilitation that complied with applicable requirements of § 983.153 has commenced, or at § 983.157, to undertake development activity after execution of the HAP contract, the PHA may not execute a HAP contract for units on which construction or rehabilitation commenced after the date of proposal submission (for housing subject to competitive selection) or the date of the PHA's board resolution approving the project-basing of assistance at the project (for housing excepted from competitive selection) and prior to the effective date of an Agreement. At HUD's sole discretion, HUD may approve a PHA's request for an exception to this prohibition. In determining whether to approve the PHA request, HUD will consider appropriate factors, including the nature and extent of the construction or rehabilitation that has commenced.

Project/Activity: Fairfax County Redevelopment and Housing Authority (FCRHA).

Granted by: Richard Monocchio, Principal Deputy Assistant Secretary for Public and Indian Housing.

Date Granted: November 19, 2024.

Reason Waived: The FCRHA is requesting this waiver to allow Wesley Lamb LLC to immediately begin site preparation at the Lamb Center for the Beacon Landing project prior to execution of the AHAP. Wesley Lamb LLC must demolish the existing structure at 9640 Fairfax Blvd. and level the site by December 12, 2024, to ensure safe conditions and prevent project delays. The Part 58 Environmental Review was completed in December 2022, covering both the project site and PBV units. The PHA and the developer have adhered to all standard requirements. This waiver is requested to address health and safety concerns and expedite the creation of urgently needed replacement housing for the homeless. The delay in meeting the December 12, 2024, deadline risks project setbacks, cost increases, and potential impacts to financing. HUD found this to be good cause and granted the waiver for 983.154(d) and an exception for 953.52(d) in accordance with the requirements of that section to permit Wesley Housing to begin the demolition and remediation activities prior to entering an Agreement to Enter into a Housing Assistance Payment.

Contact: Jerone L. Anderson, Housing Programs Specialist, Housing Voucher Management and Operations Division, Office of Public and Indian Housing, Department of Housing and Urban Development, 451 7th Street SW, Room, Washington, DC 20410, email: Jerone.L.Anderson@hud.gov, telephone (202) 402-6709.

Extended Streamlined Waivers

• Regulation: 24 CFR 982.201(e) and 960.259: Verification of Date of Birth and Disability Status.

Project/Activity: Regulatory Waivers and Administrative Flexibilities During a Presidentially Declared Disaster, for Public Housing Agencies During CY 2024 and CY 2025 FR-6438-N-01 (February 5, 2024).

Nature of Requirement: 24 CFR 982.201(e) and 960.259(a) and (c)(1) relate to verifying a family member's disability status and/or date of birth at the time of admission; and the impact that determination has on the family's eligible expenses and deductions. The PHA must receive information verifying that an applicant is eligible within the period of 60 days before the PHA issues a voucher to the applicant. The family must supply any information that the PHA or HUD determines is necessary in administration of the public housing program, including submission of required evidence of citizenship or eligible immigration status. Also, the PHA must obtain and document in the family file third-party verification of reported family annual income; the value of assets; expenses related to deductions from annual income; and other facts that affect the determination of adjusted income or income-based rent, or must document in the file why third-party verification was not available.

Reason Waived: Disaster impacted the ability of families to provide the necessary documentation verifying eligibility, thus delaying the ability of the PHA to provide assistance to the family. This waiver was provided to allow PHAs to accept a self-certification from the applicable family, if the family is unable to provide third-party verification of date of birth and/or disability status, because of loss or lack of documents. This allows families to be housed more quickly in the aftermath of a disaster when the need for and access to housing is hampered by the disaster.

Granted by: Richard Monocchio, Principal Deputy Assistant Secretary for Public and Indian Housing.

Contact: Tesia Anyanaso, Office of Field Operations/Coordination and Compliance Division, Office of Public and Indian Housing, 451 7th Street SW, Suite 3180, Washington, DC 20410-5000, or email to PIH_Expedited_Waivers@hud.gov.

Code | PHAs | Waiver signed
FL003 | Tampa Housing Authority | 11/19/2024
NC140 | WNCSOURCE | 11/7/2024

• Regulation: 24 CFR 984.303(d): Family Self Sufficiency (FSS) Contract of Participation, Contract Extension.

Project/Activity: Regulatory Waivers and Administrative Flexibilities During a Presidentially Declared Disaster, for Public Housing Agencies During CY 2024 and CY 2025 FR-6438-N-01 (February 5, 2024).

Nature of Requirement: Section 984.303(d) authorizes a PHA to extend a family's contract of participation for a period of two years in the FSS Program. This waiver authorizes the PHA to grant an additional year on a case-by-case basis if a FSS family was affected by the disaster.

Reason Waived: FSS participants affected by the disaster may need an additional time to complete their FSS Contract of Participation.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024

• Regulation: 24 CFR 982.201(e) and 960.259(a)(1) and (2) and (c): Eligibility Determination, Income Verification.

Project/Activity: Regulatory Waivers and Administrative Flexibilities During a Presidentially Declared Disaster, for Public Housing Agencies During CY 2024 and CY 2025 FR-6438-N-01 (February 5, 2024).

Nature of Requirement: PHAs are required to verify a family's income eligibility within 60 days prior to voucher issuance for the tenant-based voucher program and prior to admission for the project-based voucher and public housing programs. PIH-Notice 2023-27 provides the verification hierarchy under which the PHAs are responsible for obtaining third party verification of reported family annual income.

Reason Waived: PHAs are required to verify a family's income eligibility within 60 days prior to voucher issuance. Disaster impacted the ability of families to provide the necessary documentation verifying eligibility, thus delaying the ability of the PHA to provide assistance to the family. This waiver was provided to allow PHAs to accept a self-certification from the applicable family, if the family is unable to provide third-party verification of date of birther and/or disability status, because of loss or lack of documents. This allows families to be housed more quickly in the aftermath of a disaster when the need for and access to housing is hampered by the disaster.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024
NC140 | WNCSOURCE | 11/7/2024

• Regulation: 24 CFR 982.206(a)(2) and 960.206: Waiting List Opening and Closing, Public Notice.

Project/Activity: Regulatory Waivers and Administrative Flexibilities During a Presidentially Declared Disaster, for Public Housing Agencies During CY 2024 and CY 2025 FR-6438-N-01 (February 5, 2024).

Nature of Requirement: The PHA must give the public notice by publication in a local newspaper of general circulation, and also by minority media and other suitable means. The notice must comply with HUD fair housing requirements. The PHA may adopt a system of local preferences for selection of families admitted to the PHA's public housing program. The PHA system of selection preferences must be based on local housing needs and priorities as determined by the PHA. In determining such needs and priorities, the PHA shall use generally accepted data sources. Such sources include public comment on the PHA plan and on the consolidated plan for the relevant jurisdiction.

Reason Waived: The impact of a disaster necessitated a change in the status of the PHA's waiting list to meet the emergency needs of the community. Typical means of communicating such changes may not be available or may unnecessarily delay the PHA's actions and ability to assist families impacted by the disaster. This waiver allows for streamlined public notification.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | Code PHAs | Waiver signed
FL003 | Tampa Housing Authority | 11/19/2024

• Regulation: PIH Notice 2011-65: Timely Reporting Requirements of the Family Report (Form HUD-50058).

Project/Activity: Regulatory Waivers and Administrative Flexibilities During a Presidentially Declared Disaster, for Public Housing Agencies During CY 2024 and CY 2025 FR-6438-N-01 (February 5, 2024).

Nature of Requirement: PHAs must submit family reports no later than 60 calendar days from the effective date of any action recorded on line 2b of the form HUD-50058 or form HUD-50058 MTW).

Reason Waived: Disaster impacted the ability of the PHA to timely submit family reports as a result of destruction to PHA technology infrastructure, the impact of disaster on personnel, or the prioritization by the PHA staff on disaster response.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | Code PHAs | Waiver signed
FL002 | Housing Authority City of St. Petersburg | 11/7/2024
FL003 | Tampa Housing Authority | 11/19/2024
NC140 | WNCSOURCE | 11/7/2024

• Regulation: 24 CFR 982.516(a)(2) and (3): Family Income and Composition, Annual, and Interim Examinations for HCV and PBV; 24 CFR 960.259(c): Family Information and Verification for PH and PIH Notice 2023-27.

Project/Activity: Regulatory Waivers and Administrative Flexibilities During a Presidentially Declared Disaster, for Public Housing Agencies During CY 2024 and CY 2025 FR-6438-N-01 (February 5, 2024).

Nature of Requirement: The PHA is required to obtain a document in the tenant file third-party verification or must document in the tenant file because third party verification was not available. HUD may waiver the requirements to use the income verification hierarchy for families impacted by a PDD.

Reason Waived: Disaster impacted the ability of the PHA to obtain and document third-party verification. Some places of business may not be able to provide the verification as a result of the disaster. The PHA may also be prioritizing disaster response actions and not have the capacity to go through the verification hierarchy.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | Code PHAs | Waiver signed
FL002 | Housing Authority City of St. Petersburg | 11/7/2024
FL003 | Tampa Housing Authority | 11/19/2024
NC140 | WNCSOURCE | 11/7/2024

• Regulation: 24 CFR 5.703(d)(5): National Standards for the Physical Inspection of Real Estate, Units.

Project/Activity: Regulatory Waivers and Administrative Flexibilities During a Presidentially Declared Disaster, for Public Housing Agencies During CY 2024 and CY 2025 FR-6438-N-01 (February 5, 2024).

Nature of Requirement: HUD may consider a request from a PDD PHA to waive the requirement to have at least one bedroom or living/sleeping room for each two persons, to help house families displaced due to PDDs.

Reason Waived: Disaster impacted the ability of families to provide the necessary documentation verifying eligibility, thus delaying the ability of the PHA to provide assistance to the family. Notice FR-6438-N-01 allows administrative flexibilities during presidentially declared disasters using a streamlined process. This allows families to be housed more quickly in the aftermath of a disaster when the need for and access to housing is hampered by the disaster.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | Code PHAs | Waiver signed
FL002 | Housing Authority City of St. Petersburg | 11/7/2024
FL003 | Tampa Housing Authority | 11/19/2024
NC140 | WNCSOURCE | 11/7/2024
NC152 | Mountain Projects, Inc. | 11/7/2024

• Regulation: 24 CFR 982.503(c): HUD Approval of Exception Payment Standard Amount.

Project/Activity: Regulatory Waivers and Administrative Flexibilities During a Presidentially Declared Disaster, for Public Housing Agencies During CY 2024 and CY 2025 FR-6438-N-01 (February 5, 2024).

Nature of Requirement: To substantiate the need for an exception payment standard usually a PHA must provide data about the local market, as well as other program related information. However, in a PDD the typical data sources fail to capture conditions on the ground. In these cases, a PHA must provide available date on pre-disaster HCV time to lease and success rates, its pre-disaster payment standards, the exception payment standards amount being requested, and the need for the requested amounts.

Reason Waived: The PHA was able to evidence the need for an exception payment standard resulting from the negative impact of the disaster on the local housing market.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024
NC140 | WNCSOURCE | 11/7/2024
NC152 | Mountain Project, Inc | 11/7/2024

• Regulation: 24 CFR 982.54(d)(2): Term of Voucher, Extension of Term.

Project/Activity: Regulatory Waivers and Administrative Flexibilities During a Presidentially Declared Disaster, for Public Housing Agencies During CY 2024 and CY 2025 FR-6438-N-01 (February 5, 2024).

Nature of Requirement: HUD may waiver 24 CFR 982.54(d)(2), allowing the PHA to establish the alternative voucher extension policy immediately before updating its Administrative Plan. PHA must notify families of the new policy as soon as possible and update its Administrative Plan within six months of approval.

Reason Waived: PHAs have discretion to establish the term of the voucher, beyond 60 days, and its extension policies. The disaster impacts the ability of a family searching with a voucher to find suitable housing. necessitating an immediate change to the PHA's policies. Failure to expeditiously update the PHA's policy may result in the voucher being cancelled by the PHA.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024
NC140 | WNCSOURCE | 11/7/2024

• Regulation: 24 CFR 982.305(c): PHA Approval of Assisted Tenancy, When HAP Contract is Executed.

Project/Activity: Regulatory Waivers and Administrative Flexibilities During a Presidentially Declared Disaster, for Public Housing Agencies During CY 2024 and CY 2025 FR-6438-N-01 (February 5, 2024)

Nature of Requirement: When a PDD impacts an owner's ability to collect the documents, the PHA must use best efforts to execute the HAP contract before the beginning of the lease term. The HAP contract must be executed no later than 60 calendar days from the beginning of the lease term per 24 CFR 982.305(c).

Reason Waived: The disaster impacted the ability to execute HAP contract between the PHA and owner. Without this waiver, a delayed HAP contract results in the delay of payment to the owner, making it harder to attract owners to the HCV program. A failure to execute the HAP contract timely voids the HAP contract, putting the housing status of the family at risk.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024

• Regulation: 24 CFR 982.633(a): Occupancy of Home.

Project/Activity: Regulatory Waivers and Administrative Flexibilities During a Presidentially Declared Disaster, for Public Housing Agencies During CY 2024 and CY 2025 FR-6438-N-01 (February 5, 2024).

Nature of Requirement: PDD PHA wishing to waive the requirement that PHAs make HAP for homeownership assistance only while a family resides in their home and must stop HAP no later than the month after a family moves out, to allow families displaced from their homes located in areas affected by PDDs to comply with mortgage terms or make necessary repairs. A PHA requesting a waiver of this type must show good cause by demonstrating that the family is not already receiving assistance from another source.

Reason Waived: This waiver will allow the PHA to continue paying the housing assistance payment in cases where the family is unable to occupy their home due to damage caused by the disaster. This allows families to comply with the mortgage requirements to keep their home while making the necessary repairs to reoccupy the home.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024

• Regulation: 24 CFR 982.54(a) Administrative Plan.

Project/Activity: Regulatory Waivers and Administrative Flexibilities During a Presidentially Declared Disaster, for Public Housing Agencies During CY 2024 and CY 2025 FR-6438-N-01 (February 5, 2024).

Nature of Requirement: Recognizing difficulties in complying with the requirement that the PHA Board of Commissioners formally adopted revisions to the administrative plan during a PDD, HUD may waive the requirement to allow the PHA administrative plan to be revised on a temporary basis without Board approval for 120 days. Any informally adopted revisions under this waiver authority must be formally adopted within 120 days.

Reason Waived: The PHA has the option to adopt certain discretionary policies in the administration of its Housing Choice Voucher program. This waiver reduces the administrative burden for PHAs to implement temporary changes in policy necessitated by disaster to provide relief to families impacted.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024
NC140 | WNCSOURCE | 11/7/2024

• Regulation: 24 CFR 982.405(b): Supervisory Quality Control Inspections.

Project/Activity: Regulatory Waivers and Administrative Flexibilities During a Presidentially Declared Disaster, for Public Housing Agencies During CY 2024 and CY 2025 FR-6438-N-01 (February 5, 2024).

Nature of Requirement: PHA are required to conduct supervisory quality control housing standards (HQS) inspections. If approved, the waiter would remove the requirement for PHAs to conduct such inspections for the 6-month period.

Reason Waived: This waiver will allow the PHA to prioritize recovery efforts and focus on other inspections necessitated by the disaster.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024
NC152 | Mountain Projects, Inc. | 11/7/2024

• Regulation: 24 CFR 982.312, Absence from Unit.

Project/Activity: Regulatory Waivers and Administrative Flexibilities During a Presidentially Declared Disaster, for Public Housing Agencies During CY 2024 and CY 2025 FR-6438-N-01 (February 5, 2024).

Nature of Requirement: This regulation requires that a family may not be absent from a unit for a period of more than 180 consecutive calendars days for any reason. Under this document, PDD PHAs may seek waiver approval to extend the period of absence from 180 days to 240 days and maintain documentation in the tenant file indicating unit is under a PDD which resulted in extended absence.

Reason Waived: This waiver will allow PHAs to provide relief to displaced families as they search for housing in a competitive rental market with ongoing fluctuations and disruptions.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024
NC152 | Mountain Projects, Inc. | 11/7/2024

• Regulation: 24 CFR 982.455, 983.258, and 983.211(a): Automatic Termination of HAP Contract or Required Removal of Unit from the PBV HAP.

Project/Activity: Regulatory Waivers and Administrative Flexibilities During a Presidentially Declared Disaster, for Public Housing Agencies During CY 2024 and CY 2025 FR-6438-N-01 (February 5, 2024).

Nature of Requirement: PHAs may request a waiver to extend the timeframe for automatic termination of the HAP contract or required removal of the unit from the PBV HAP contract, from 180 days to 360 days following the last HAP payment to the owner, to preserve families' assistance for a longer period in case a family experiences a loss of income, and to allow the PHA time to process interim reexaminations for families who report a loss of income.

Reason Waived: This waiver will reduce the administrative burden for PHAs and allow PHAs to provide relief to families by ensuring they do not lose their housing assistance if they experience a loss of income during the extending period.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024
NC152 | Mountain Projects, Inc. | 11/7/2024

• Regulation: 24 CFR 982.517(c): Revisions of Utility Allowance Schedule.

Project/Activity: Regulatory Waivers and Administrative Flexibilities During a Presidentially Declared Disaster, for Public Housing Agencies During CY 2024 and CY 2025 FR-6438-N-01 (February 5, 2024).

Nature of Requirement: PHAs must review their schedule of utility allowances each year and revise their allowance for a utility category if there has been a change of 10 percent or more in the utility rate since the last time the utility allowance schedule was revised. During a PDD, HUD may allow a PHA to delay reviewing and updating HCV utility allowances, for an additional 6 months beyond the normal 12-month period.

Reason Waived: This waiver is necessary to reduce administrative burden and allow for prioritization by the PHA staff to focus on disaster relief and recovery efforts.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
NC140 | WNCSOURCE | 11/7/2024

• Regulation: PIH Notice 2018-1, Section 9: Guidance on Small Area Market Rent (SAFMR) and Payment Standard.

Project/Activity: Regulatory Waivers and Administrative Flexibilities During a Presidentially Declared Disaster, for Public Housing Agencies During CY 2024 and CY 2025 FR-6438-N-01 (February 5, 2024).

Nature of Requirement: PHAs may request a suspension or temporary exemption from using SAFMRs. A PDD PHA can request a suspension or temporary exemption from the requirement to use SAFMRs, and HUD can provide such an extension, through this waiver process rather than following the requirements and process outlined in PIH Notice 2018-1, which would normally be required.

Reason Waived: This waiver is to temporarily exempt the PHA from implementing SAFMRs will allow the PHA to prioritize recovery efforts and allow for the housing market to stabilize before the PHAs can adequately assess and apply SAFMRs when fluctuating rental prices and lack of supply stabilized.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024

• Regulation: 24 CFR part 985. Section 8 Management Assessment Program (SEMAP).

Project/Activity: Regulatory Waivers and Administrative Flexibilities During a Presidentially Declared Disaster, for Public Housing Agencies During CY 2024 and CY 2025 FR-6438-N-01 (February 5, 2024).

Nature of Requirement: For a PDD PHA that has a SEMAP score due during calendar year (CY) 2024 or CY2025 HUD may consider a request to carry forward the last SEMAP score received by the PHA and forego HUD performing an assessment for CY2024 or CY2025, as applicable. If HUD grants this waiver, the PHA's next SEMAP assessment will occur at the time an assessment would normally have been required had the PHA received the same SEMAP score for CY2024 or CY2025, as applicable.

Reason Waived: This waiver will reduce the administrative burden for PHAs experiencing a disruption of the PHA's administrative operations caused by the disaster and the need to prioritize disaster relief and recovery efforts.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024
NC140 | WNCSOURCE | 11/7/2024

• Regulation: 24 CFR 5.801(c) and (d)(1): Uniform Financial Reporting Standards, Filing of Financial Reports, Reporting Compliance Dates.

Project/Activity: Regulatory Waivers and Administrative Flexibilities During a Presidentially Declared Disaster, for Public Housing Agencies During CY 2024 and CY 2025 FR-6438-N-01 (February 5, 2024)

Nature of Requirement: For PDD PHAs with a deadline to submit only audited financial information in accordance with 24 CFR 5.801(b) and (d) within six months after the date of the disaster related to the PDD, HUD may consider a request to waive the due date. For PDD PHAs with a deadline to submit unaudited financial information in accordance with 24 CFR 5.801(b) and (d) within 120 days before and up to six months after the date of the disaster related to the PDD, HUD may consider a request to waiver the due date. HUD may consider requests from PDD PHAs with financial submission due dates that fall outside these requirements. The deadline for submission of financial information in accordance with 24 CFR 5.801(b) and the deadline for submission of unaudited financial statements may be extended to 180 calendar days, and the deadline for submission of audited financial statements may be extended to 13 months.

Reason Waived: REAC grants an extension for the submission of financial audits for entities in presidentially declared disaster areas to allow affected entities to focus on disaster response and recovery efforts while prioritizing public safety and effective resource management. Financial audits will need to be submitted once conditions stabilize to maintain compliance and accountability.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
VQ001 | Virgin Island Housing Authority | 9/9/2024
FL003 | Tampa Housing Authority | 11/19/2024
NC140 | WNCSOURCE | 11/7/2024

• Regulation: 24 CFR 902. Public Housing Assessment System.

Project/Activity: Regulatory Waivers and Administrative Flexibilities During a Presidentially Declared Disaster, for Public Housing Agencies During CY 2024 and CY 2025 FR-6438-N-01 (February 5, 2024).

Nature of Requirement: For PDD PHAs with fiscal year end (FYE) dates within four months before and up to 10 months after the effective date of the PDD, HUD may consider a request to waive the physical inspection and scoring of public housing projects, as required under 24 CFR part 902. For situations beyond the PHA's control, HUD may consider requests from PDD PHAs with a FYE date that falls outside these dates.

Reason Waived: REAC defers the submission and release of PHAS scores for the presidentially declared disaster areas. This delay recognizes the operational challenges posed by disaster events and ensures fairness and accuracy in the assessment process. PHAS scores will be released the following year after recovery efforts have progressed sufficiently to ensure accurate reporting.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL002 | Housing Authority City of St. Petersburg | 11/7/2024
FL003 | Tampa Housing Authority | 11/19/2024

• Regulation: 24 CFR 905.306: Extension of Deadline for Programmatic Obligation and Expenditure of Capital Funds.

Project/Activity: Regulatory Waivers and Administrative Flexibilities During a Presidentially Declared Disaster, for Public Housing Agencies During CY 2024 and CY 2025 FR-6438-N-01 (February 5, 2024).

Nature of Requirement: The regulation does not permit extensions of the expenditure dates other than for the period of a HUD approved extension of the obligation deadline. HUD may extend both the obligation end date and the expenditure end date for all Capital Fund grants during a PDD. However, no programmatic expenditure end date shall be extended beyond one month prior to the closure of the relevant appropriation account, pursuant to 31 U.S.C. 1552.

Reason Waived: Disaster impacted the ability of families to provide the necessary documentation verifying eligibility, thus delaying the ability of the PHA to provide assistance to the family. Notice FR-6438-N-01 allows administrative flexibilities during presidentially declared disasters using a streamlined process. This allows families to be housed more quickly in the aftermath of a disaster when the need for and access to housing is hampered by the disaster.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
FL003 | Tampa Housing Authority | 11/19/2024

• Regulation: 24 CFR 990.145(b)(2): Dwelling Units with Approved Vacancies

Project/Activity: Regulatory Waivers and Administrative Flexibilities During a Presidentially Declared Disaster, for Public Housing Agencies During CY 2024 and CY 2025 FR-6438-N-01 (February 5, 2024)

Nature of Requirement: If a PDD PHA has one or more units that have been vacated due to a PDD, then the PDD PHA, with HUD approval, may treat the unit as an “approved vacancy.” Upon the request of a PDD PHA and HUD approval, on a case-bycase basis, such units may be considered approved vacancies for the time approved by HUD. Effective date of vacant unit must align with the date of the emergency/or significant disaster event that resulted in the PDD.

Reason Waived: Disaster impacted the ability of families to provide the necessary documentation verifying eligibility, thus delaying the ability of the PHA to provide assistance to the family. Notice FR-6438-N-01 allows administrative flexibilities during presidentially declared disasters using a streamlined process. This allows families to be housed more quickly in the aftermath of a disaster when the need for and access to housing is hampered by the disaster.

Granted by: Richard Monocchio, Principal Deputy Assistant Secretary for Public and Indian Housing.

Contact: Tesia Anyanaso, Office of Field Operations/Coordination and Compliance Division, Office of Public and Indian Housing 451 7th Street SW, Suite 3180, Washington, DC 20410, or email to PIH_Expedited_Waivers@hud.gov.

Code | PHAs | Waiver signed
NC055 | Valdese Housing Authority | 11/19/2024
FL007 | Daytona Beach Housing Authority | 12/23/2024

[FR Doc. 2025-15123 Filed 8-7-25; 8:45 am]

BILLING CODE 4210-67-P